NUCLEAR REGULATORY COMMISSION

Notice of Availability of the Draft Supplement to the Final Generic Environmental Impact Statement on Decommissioning of Nuclear Facilities and Notice of Public Meetings

Notice is hereby given that the U.S. Nuclear Regulatory Commission (NRC) has published draft Supplement 1 to NUREG-0586, “Final Generic Environmental Impact Statement on Decommissioning of Nuclear Facilities [GEIS],” dealing with decommissioning of nuclear power reactors.

The draft supplement to the GEIS is available electronically through the NRC's Public Electronic Reading Room (PERR) found on the Internet at the following web address: http://www.nrc.gov/NRC/ADAMS/index.html. From this site, the public can gain access to the NRC's Agencywide Document Access and Management Systems (ADAMS), which provides text and image files of NRC's public documents. The draft report can also be examined, or copied for a fee, at the NRC's Public Document Room found at One White Flint North, 11555 Rockville Pike (first floor), Rockville, MD. If you do not have access to ADAMS or if there are problems in accessing the documents located in ADAMS, contact the NRC Public Document Room (PDR) Reference staff at 1-800-397-4209, or 301-415-4737, or by e-mail to pdr@nrc.gov.

Any interested party may submit comments on the draft supplement to the GEIS for consideration by the NRC staff. To be certain of consideration, comments on the draft supplement to the GEIS and the proposed action must be received by December 31, 2001. Comments received after the due date will be considered if it is practical to do so, but the NRC staff is able to assure consideration only for comments received on or before this date. Written comments on the draft supplement to the GEIS should be sent to: Chief, Rules and Directives Branch, Division of Administrative Services, Mailstop T 6 D 59, U.S. Nuclear Regulatory Commission, Washington, DC 20555-0001.

Comments may be hand-delivered to the NRC at 11545 Rockville Pike, Rockville, Maryland, between 7:45 a.m. and 4:15 p.m. on Federal workdays. Comments may be submitted electronically to the NRC to the e-mail address dgeis@nrc.gov. All comments received by the NRC, including those made by Federal, State, and local agencies; Indian tribes; or other interested persons, will be accessible electronically through NRC's PERR link listed above, and can be examined, or copied for a fee, at the NRC's Public Document Room in Rockville, Maryland.

Notice is hereby given that the NRC staff will hold four public meetings to present an overview of the draft supplement to the GEIS and to accept public comments on the document. The public meetings will be held at the following locations and dates:

December 4, 2001

The Argent Hotel, 50 Third Street, San Francisco, CA 94103, 1-415-974-6400

December 10, 2001

Boston Marriott Copley Place, 110 Huntington Avenue, Boston, MA 02116, -617-236-5800

December 6, 2001

The Drake, 140 East Wallon Place, Chicago, IL 60611, 1-312-787-2200

December 12, 2001

Marriott Marquis, 265 Peachtree Center Avenue, Atlanta, GA 30303, 1-404-521-0000

The meetings will commence at 7 p.m. and will continue until 10 p.m. All meetings will be transcribed and will include (1) a presentation of the contents of the draft supplement to the GEIS, and (2) the opportunity for interested government agencies, organizations, and individuals to provide comments on the draft report. Additionally, the NRC staff will host informal discussions one hour prior to the start of each session. No comments on the draft supplement to the GEIS will be accepted during the informal discussions. To be considered, comments must be provided either at the transcribed public meetings or in writing, as discussed below. Persons may register to attend or present oral comments at a meeting by contacting Mr. Dino Scaletti by telephone at 1-800-368-5642, extension 1104, or by Internet to the NRC at dgeis@nrc.gov no later than November 27, 2001. Members of the public may also register to provide oral comments within 15 minutes of the start of each session. Individual oral comments may be limited by the time available, depending on the number of persons who register. If special equipment or accommodations are needed to attend or present information at the public meeting, the need should be brought to Mr. Scaletti's attention no later than November 27, 2001, to provide the NRC staff adequate notice to determine whether the request can be accommodated.

FOR FURTHER INFORMATION CONTACT: Mr. Dino Scaletti, Risk-Informed Initiatives, Environmental, Decommissioning, and Rulemaking Branch, Division of Regulatory Improvement Programs, U.S. Nuclear Regulatory Commission, Washington, DC 20555. Mr. Scaletti may be contacted at the aforementioned telephone number or e-mail address.

Dated at Rockville, Maryland, this 2nd day of November, 2001.
For the Nuclear Regulatory Commission.
Cynthia A. Carpenter,
Chief, Risk Informed Initiatives, Environmental, Decommissioning, and Rulemaking Branch, Division of Regulatory Improvement Programs, Office of Nuclear Reactor Regulations.

[FR Doc. 01-28088 Filed 11-8-01; 8:45 am]

BILLING CODE 7590-01-P